DEPARTMENT OF VETERANS AFFAIRS

[OMB Control No. 2900-NEW]

Agency Information Collection Activity: VA Pilot Program on Graduate Medical Education and Residency (PPGMER)

AGENCY: Veterans Health Administration, Department of Veterans Affairs.

ACTION: Notice.

SUMMARY: Veterans Health Administration (VHA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before January 3, 2023.

ADDRESSES: Submit written comments on the collection of information through Federal Docket Management System (FDMS) at www.Regulations.gov or to Janel Keyes, Office of Regulations, Appeals, and Policy (10BRAP), Department of Veterans Affairs, 810 Vermont Avenue NW, Washington, DC 20420 or email to Janel.Keyes@va.gov. Please refer to “OMB Control No. 2900-NEW” in any correspondence. During the comment period, comments may be viewed online through FDMS.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-NEW” in any correspondence.

SUPPLEMENTARY INFORMATION: Under the PRA of 1995, Federal agencies must obtain approval from the Office of Management and Budget (OMB) for each collection of information they conduct or sponsor. This request for comment is being made pursuant to section 3506(c)(2)(A) of the PRA.

With respect to the following collection of information, VHA invites comments on: (1) whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Authority:

Public Law 104-13; 44 U.S.C. 3501-3521.

Title: VA Pilot Program on Graduate Medical Education and Residency (PPGMER).

OMB Control Number: 2900-NEW.

Type of Review: New collection.

Abstract: Section 403 of the John S. McCain III, Daniel K. Akaka, and Samuel R. Johnson VA Maintaining Internal Systems and Strengthening Integrated Outside Networks (MISSION) Act of 2018 (Public Law 115-182) mandated that VA create a pilot program to establish additional graduate medical education (GME) physician residency placement positions at certain covered facilities. The pilot program will place no fewer than 100 resident physicians at covered facilities (sites) operated by Indian tribe or tribal organization (25 U.S.C. 5304), Indian Health Service, Federally-Qualified Health Centers (42 U.S.C. 1396d(1)(2)(B)) and Department of Defense. Participants in this pilot program are required by the statute to collect and provide VA with programmatic data. VA is required to include this information in an annual report to Congress until the program terminates on August 7, 2031. The information will be collected by the GME sponsoring institutions and the physician residents they place in the participating covered facilities. The sponsors themselves will determine the best method for collection of the necessary data depending on their own resources and staffing. The information to be collected will include required elements, such as number of patients seen per day by each resident placed in a covered facility, for the annual report on implementation of the pilot program submitted by VA to Congress.

Physician Resident Data Collection

Affected Public: Individuals or households.

Estimated Annual Burden: 600 hours.

Estimated Average Burden per Respondent: 6 hours.

Frequency of Response: Once annually.

Estimated Number of Respondents: 100.

GME Sponsor Data Collection

Affected Public: Private Sector.

Estimated Annual Burden: 1,200 hours.

Estimated Average Burden Per Respondent: 120 hours.

Frequency of Response: Once annually.

Estimated Number of Respondents: 10.

By direction of the Secretary.
Dorothy Glasgow,
VA PRA Clearance Officer, (Alt) Office of Enterprise and Integration/Data Governance Analytics, Department of Veterans Affairs.

[FR Doc. 2022-23715 Filed 10-31-22; 8:45 am]

BILLING CODE 8320-01-P